DEPARTMENT OF ENERGY

Federal Energy Regulatory Commission

[Docket Nos. ER04-539-001, ER04-539-002, and EL04-121-000]

PJM Interconnection, LLC; Notice of Initation of Investigation and Refund Effective Date

August 11, 2004.

On August 10, 2004, the Commission issued an order in the above-referenced dockets initiating an investigation in Docket No. EL04-121-000 pursuant to section 206 of the Federal Power Act to determine whether the existing tariff provision providing for an exemption from mitigation for generators in particular control areas needs to be revised in light of the expansions of the PJM system.

The refund effective date in Docket No. EL04-121-000, established pursuant to section 206(b) of the Federal Power Act, will be 60 days following publication of this notice in the Federal Register.

Magalie R. Salas,
Secretary.

[FR Doc. E4-1836 Filed 8-18-04; 8:45 am]

BILLING CODE 6717-01-P